DEPARTMENT OF DEFENSE

48 CFR Parts 237 and 252

[DFARS Case 2003-D041]

Defense Federal Acquisition Regulation Supplement; Specialized Service Contracting

AGENCY: Department of Defense (DoD).

ACTION: Proposed rule with request for comments.

SUMMARY: DoD is proposing to amend the Defense Federal Acquisition Regulation Supplement (DFARS) to update text pertaining to the acquisition of mortuary and laundry and dry cleaning services. This proposed rule is a result of a transformation initiative undertaken by DoD to dramatically change the purpose and content of the DFARS.

DATES: Comments on the proposed rule should be submitted in writing to the address shown below on or before April 25, 2005, to be considered in the formation of the final rule.

ADDRESSES: You may submit comments, identified by DFARS Case 2003-D041, using any of the following methods:

• Federal eRulemaking Portal: http://www.regulations.gov. Follow the instructions for submitting comments.

• Defense Acquisition Regulations Web Site: http://emissary.acq.osd.mil/dar/dfars.nsf/pubcomm. Follow the instructions for submitting comments.

• E-mail: dfars@osd.mil. Include DFARS Case 2003-D041 in the subject line of the message.

• Fax: (703) 602-0350.

• Mail: Defense Acquisition Regulations Council, Attn: Ms. Robin Schulze, OUSD(AT&L)DPAP(DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Robin Schulze, (703) 602-0326.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This proposed rule is a result of the DFARS Transformation initiative. The proposed changes—

• Revise DFARS Subpart 237.70 to delete procedures for defining the geographic area to be covered by mortuary services contracts, and procedures for distribution of those contracts. These procedures will be relocated to the new DFARS companion resource, Procedures, Guidance, and Information, available at http://www.acq.osd.mil/dpap/dars/pgi.

• Delete the clause at DFARS 252.237-7010 containing facility requirements for mortuary services, as these requirements are adequately addressed in State law.

• Revise DFARS Subpart 237.71 to delete unnecessary requirements relating to contracting for laundry and dry cleaning services.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule makes no significant change to contracting policy. Therefore, DoD has not performed an initial regulatory flexibility analysis. DoD invites comments from small businesses and other interested parties. DoD also will consider comments from small entities concerning the affected DFARS subparts in accordance with 5 U.S.C. 610. Such comments should be submitted separately and should cite DFARS Case 2003-D041.

C. Paperwork Reduction Act

The Paperwork Reduction Act does not apply because the rule does not impose any information collection requirements that require the approval of the Office of Management and Budget under 44 U.S.C. 3501, et seq.

List of Subjects in 48 CFR Parts 237 and 252

Government procurement.

Michele P. Peterson,
Editor, Defense Acquisition Regulations System.

Therefore, DoD proposes to amend 48 CFR parts 237 and 252 as follows:

PART 237—SERVICE CONTRACTING

1. The authority citation for 48 CFR parts 237 and 252 continues to read as follows:

Authority: 41 U.S.C. 421 and 48 CFR Chapter 1.

2. Subpart 237.70 is revised to read as follows:

Subpart 237.70—Mortuary Services

Sec.
237.7000 Scope.
237.7001 Method of acquisition.
237.7002 Area of performance and distribution of contracts.
237.7003 Solicitation provisions and contract clauses.

237.7000 Scope.

This subpart—

(a) Applies to contracts for mortuary services (the care of remains) for military personnel within the United States; and

(b) May be used as guidance in areas outside the United States for mortuary services for deceased military and civilian personnel.

237.7001 Method of acquisition.

(a) Requirements type contract. By agreement among the military activities, one activity in each geographical area will contract for the estimated requirements for the care of remains for all military activities in the area. Use a requirements type contract (see FAR 16.503) when the estimated annual requirements for the activities in the area are ten or more.

(b) Purchase order. Where no contract exists, use DD Form 1155, Order for Supplies and Services/Request for Quotations, to obtain mortuary services.

237.7002 Area of performance and distribution of contracts.

Follow the procedures at PGI 237.7002 for—

(a) Defining the geographic area to be covered by the contract; and

(b) Distributing copies of the contract.

237.7003 Solicitation provisions and contract clauses.

(a) Use the provision at 252.237-7002, Award to Single Offeror, in all sealed bid solicitations for mortuary services. Use the basic provision with its Alternate I in all negotiated solicitations for mortuary services.

(b) Use the following clauses in all mortuary service solicitations and contracts, except do not use the clauses at 252.237-7004, Area of Performance, in solicitations or contracts that include port of entry requirements:

(1) 252.237-7003, Requirements, (insert activities authorized to place orders in paragraph (e) of the clause).

(2) 252.237-7004, Area of Performance.

(3) 252.237-7005, Performance and Delivery.

(4) 252.237-7006, Subcontracting.

(5) 252.237-7007, Termination for Default.

(6) 252.237-7008, Group Interment.

(7) 252.237-7009, Permits.

(8) 252.237-7011, Preparation History.

(c) Use the clause at FAR 52.245-4, Government-Furnished Property (Short Form), in solicitations and contracts that include port of entry requirements.

3. Section 237.7100 is revised to read as follows:

237.7100 Scope.

This subpart—

(a) Applies to contracts for laundry and dry cleaning services within the United States; and

(b) May be used as guidance in areas outside the United States.

237.7101 [Removed]

4. Section 237.7101 is removed.

237.7102 [Redesignated as 237.7101]

5. Section 237.7102 is redesignated as section 237.7101.

PART 252—SOLICITATION PROVISIONS AND CONTRACT CLAUSES

252.237-7002 [Amended]

6. Section 252.237-7002 is amended in the introductory text, and in Alternate I in the introductory text, by removing “237.7004” and adding in its place “237.7003.”

252.237-7003 through 252.237-7009 [Amended]

7. Sections 252.237-7003 through 252.237-7009 are amended in the introductory text by removing “237.7004” and adding in its place “237.7003.”

252.237-7010 [Removed and Reserved]

8. Section 252.237-7010 is removed and reserved.

252.237-7011 [Amended]

9. Section 252.237-7011 is amended in the introductory text by removing “237.7004” and adding in its place “237.7003.”

252.237-7012 through 252.237-7015 [Amended]

10. Sections 252.237-7012 through 252.237-7015 are amended in the introductory text by removing “237.7102” and adding in its place “237.7101.”

252.237-7016 [Amended]

11. Section 252.237-7016 is amended in the introductory text, and in Alternates I and II in the introductory text, by removing “237.7102” and adding in its place “237.7101.”

252.237-7017 and 252.237-7018 [Amended]

12. Sections 252.237-7017 and 252.237-7018 are amended in the introductory text by removing “237.7102” and adding in its place “237.7101.”

[FR Doc. 05-3206 Filed 2-18-05; 8:45 am]

BILLING CODE 5001-08-P